DEPARTMENT OF AGRICULTURE

Animal and Plant Health Inspection Service

[Docket No. APHIS-2019-0021]

Notice of Request for Reinstatement of an Information Collection; National Animal Health Monitoring System; Swine 2020 Study

AGENCY: Animal and Plant Health Inspection Service, USDA.

ACTION: Reinstatement of an information collection; comment request.

SUMMARY: In accordance with the Paperwork Reduction Act of 1995, this notice announces the Animal and Plant Health Inspection Service's intention to request the reinstatement of an information collection to conduct the National Animal Health Monitoring System's Swine 2020 Study.

DATES: We will consider all comments that we receive on or before June 24, 2019.

ADDRESSES: You may submit comments by either of the following methods:

• Federal eRulemaking Portal: Go to http://www.regulations.gov/#!docketDetail;D=APHIS-2019-0021.

• Postal Mail/Commercial Delivery: Send your comment to Docket No. APHIS-2019-0021, Regulatory Analysis and Development, PPD, APHIS, Station 3A-03.8, 4700 River Road Unit 118, Riverdale, MD 20737-1238.

Supporting documents and any comments we receive on this docket may be viewed at http://www.regulations.gov/#!docketDetail;D=APHIS-2019-0021 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Swine 2020 Study, contact Mr. Bill Kelley, Program Analyst, Center for Epidemiology and Animal Health, VS, 2150 Centre Avenue, Building B, Fort Collins, CO 80524; (970) 494-7270. For more detailed information on the information collection, contact Ms. Kimberly Hardy, APHIS' Information Collection Coordinator, at (301) 851-2483.

SUPPLEMENTARY INFORMATION: Title: National Animal Health Monitoring System; Swine 2020 Study.

OMB Control Number: 0579-0315.

Type of Request: Reinstatement of an information collection.

Abstract: Under the Animal Health Protection Act (7 U.S.C. 8301 et seq.), the Secretary of Agriculture is authorized to protect the health of the livestock, poultry, and aquaculture populations in the United States by preventing the introduction and interstate spread of serious diseases and pests of livestock and for eradicating such diseases from the United States when feasible. This authority has been delegated to the Animal and Plant Health Inspection Service (APHIS).

In connection with this mission, APHIS operates the National Animal Health Monitoring System (NAHMS), which collects, on a national basis, statistically valid and scientifically sound data on the prevalence and economic importance of livestock, poultry, and aquaculture disease risk factors.

NAHMS' studies have evolved into a collaborative industry and government initiative to help determine the most effective means of preventing and controlling diseases of livestock. APHIS is the only agency responsible for collecting data on livestock health. Participation in any NAHMS study is voluntary, and all data are confidential.

APHIS plans to conduct the Swine 2020 Study as part of an ongoing series of NAHMS studies on the U.S. livestock population. This study will support the following objectives: (1) Describe current U.S. large-scale swine production practices for gestation, farrowing, nursery, grower/finisher, and wean-to-finish phases, specifically as they relate to housing, productivity, biosecurity, and morbidity and mortality prevention; (2) Describe current U.S. small-scale production practices including general management practices, housing practices, productivity, disease prevention, and mortality; (3) Determine the producer-reported prevalence of select respiratory, neurologic, gastrointestinal, systemic, and foodborne pathogens found in weaned market pigs; (4) Describe large-scale swine production antimicrobial-use patterns in pigs from post-weaning to market age; (5) Evaluate the presence of select pathogens and characterize isolated organisms from biological specimens (feces, oral fluids) in large-scale swine production; (6) Describe trends in small-scale swine health and disease management practices; (7) Describe trends in small-scale swine production system movements, marketing, and slaughter channels; and (8) Describe potential overlaps between small-scale swine production system movements with those of larger total confinement/commercial operations.

The two components of the study will be in-person questionnaire based surveys for large swine operations and computer-assisted telephone interviews for small swine operations. The large swine operation component will consist of two phases. In Phase I, the National Agricultural Statistics Service (NASS) will contact producers by telephone and personal interviews to collect operational level data and subordinate swine production site (locations where the animals are raised) contact information. NASS data collectors will follow up with producers at each swine production site by telephone and personal interviews to collect site level data and respondent consent to be contacted for Phase II of the study. In Phase II, APHIS data collectors will contact consenting respondents to administer questionnaires and perform biologic sampling. The small swine operation component of the study will consist of NASS sending producers questionnaires and following up via computer-assisted telephone interviews with those who do not respond.

The information collected through the Swine 2020 Study will be analyzed and used to predict or detect national and regional trends in disease emergence and movement such as the prevalence of clinical signs of coronavirus (i.e., porcine epidemic diarrhea), Seneca Valley Virus, respiratory, and enteric disease in pigs; provide factual information on housing, marketing and movement for smaller swine operations; update national and regional production measures (such as average farrowing rate) for producer, veterinary, and industry reference; provide factual information on antimicrobial resistance among isolates obtained from feces; and provide assistance to researchers and the industry in evaluating the utility and accuracy of newer pathogen collection methods such as ropes to test saliva.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.61 hours per response.

Respondents: Swine producers (large and small operations).

Estimated annual number of respondents: 10,205.

Estimated annual number of responses per respondent: 2.

Estimated annual number of responses: 18,407.

Estimated total annual burden on respondents: 11,168 hours. (Due to averaging, the total annual burden hours may not equal the product of the annual number of responses multiplied by the reporting burden per response.)

All responses to this notice will be summarized and included in the request for OMB approval. All comments will also become a matter of public record.

Done in Washington, DC, this 22nd day of April 2019.
Kevin Shea,
Administrator, Animal and Plant Health Inspection Service.

[FR Doc. 2019-08351 Filed 4-24-19; 8:45 am]

BILLING CODE 3410-34-P